OFFICE OF PERSONNEL MANAGEMENT

[OMB Control No. 3206-0167; Forms RI 34-1, RI 34-3, RI 34-17, and RI 34-19]

Submission for OMB Review; Request for Clearance of a Revised Information Collection

AGENCY: Office of Personnel Management.

ACTION: Notice.

SUMMARY: In accordance with the Paperwork Reduction Act of 1995 (Pub. L. 104-13, May 22, 1995), this notice announces that the Office of Personnel Management (OPM) has submitted to the Office of Management and Budget (OMB) a request for clearance of a revised information collection. This information collection, “Financial Resources Questionnaire” (OMB Control No. 3206-0167; Forms RI 34-1 and RI 34-17), collects detailed financial information for use by OPM to determine whether to agree to a waiver, compromise, or adjustment of the collection of erroneous payments from the Civil Service Retirement and Disability Fund. “Notice of Amount Due Because Of Annuity Overpayment” (OMB Control No. 3206-0167; forms RI 34-3 and RI 34-19), informs the annuitant about the overpayment and collects information from the annuitant about how repayment will be made.

Approximately 450 RI 34-1 and 70 RI 34-17 forms are completed annually. Approximately 1,351 RI 34-3 and 210 RI 34-19 forms are completed annually. Each form takes approximately 60 minutes to complete. The annual estimated burden is 450 hours (RI 34-1), 70 hours (RI 34-17), 1,351 hours (RI 34-3) and 210 hours (RI 34-19) respectively. The total annual estimated burden is 2,081 hours.

For copies of this proposal, contact Cyrus S. Benson by telephone at (202) 606-0623, by FAX (202) 606-0910, or by e-mail at Cyrus.Benson@opm.gov. Please include a mailing address with your request.

DATES: Comments on this proposal should be received within 30 calendar days from the date of this publication.

ADDRESSES: Send or deliver comments to:

James K. Freiert, Deputy Assistant Director, Retirement Services Program, Center for Retirement and Insurance Services, U.S. Office of Personnel Management, 1900 E Street, NW., Room 3305, Washington, DC 20415-3500; and

Alexander Hunt, OPM Desk Officer, Office of Information & Regulatory Affairs, Office of Management and Budget, New Executive Office Building, 725 17th Street, NW., Room 10235, Washington, DC 20503.

For information regarding administrative coordination contact: Cyrus S. Benson, Team Leader, Publications Team, RIS Support Services/Support Group, U.S. Office of Personnel Management, 1900 E Street, NW., Room 4H28, Washington, DC 20415, (202) 606-0623.

U.S. Office of Personnel Management.
John Berry,
Director.

[FR Doc. E9-11506 Filed 5-15-09; 8:45 am]

BILLING CODE 6325-38-P